DEPARTMENT OF ENERGY

Federal Energy Regulatory Commission

18 CFR Part 11

[Docket No. RM11-6-000]

Annual Update to Fee Schedule for the Use of Government Lands by Hydropower Licensees

AGENCY: Federal Energy Regulatory Commission, Department of Energy.

ACTION: Final rule.

SUMMARY: In accordance with the Commission's regulations, the Commission, by its designee, the Executive Director, issues this annual update to the fee schedule in the appendix to the part, which lists per-acre rental fees by county (or other geographic area) for use of government lands by hydropower licensees.

DATES:

Effective date: This rule is effective February 2, 2023.

Applicability dates: The updates to appendix A to part 11, with the fee schedule of per-acre rental fees by county (or other geographic area), are from October 1, 2022, through September 30, 2023 (Fiscal Year 2023).

FOR FURTHER INFORMATION CONTACT: Raven A. Rodriguez, Financial Management Division, Office of the Executive Director, Federal Energy Regulatory Commission, 888 First Street NE, Washington, DC 20426, (202) 502-6276, Raven.Rodriguez@ferc.gov.

SUPPLEMENTARY INFORMATION:

Annual Update to Fee Schedule

Section 11.2 of the Commission's regulations provides a method for computing reasonable annual charges for recompensing the United States for the use, occupancy, and enjoyment of its lands by hydropower licensees.¹ Annual charges for the use of government lands are payable in advance, and are based on an annual schedule of per-acre rental fees published in appendix A to part 11 of the Commission's regulations.² This notice updates the fee schedule in appendix A to part 11 for fiscal year 2023 (October 1, 2022, through September 30, 2023).

¹ Annual Charges for the Use of Government Lands, Order No. 774, 78 FR 5256 (January 25, 2013), FERC Stats. & Regs. ¶ 31,341 (2013).

² 18 CFR part 11 (2018).

Effective Date

This final rule is effective February 2, 2023. The provisions of 5 U.S.C. 804, regarding Congressional review of final rules, do not apply to this final rule because the rule concerns agency procedure and practice and will not substantially affect the rights or obligations of non-agency parties. This final rule merely updates the fee schedule published in the Code of Federal Regulations to reflect scheduled adjustments, as provided for in § 11.2 of the Commission's regulations.

List of Subjects in 18 CFR Part 11

Public lands.

By the Executive Director.
Issued: January 17, 2023.
William Foster,
Chief Financial Officer, Office of the Executive Director.

In consideration of the foregoing, the Commission amends appendix A to part 11, chapter I, title 18, Code of Federal Regulations, as follows.

PART 11—ANNUAL CHARGES UNDER PART I OF THE FEDERAL POWER ACT

1. The authority citation for part 11 is revised to read as follows:

Authority: 16 U.S.C. 792-828c; 42 U.S.C. 7101-7352.

2. Appendix A to Part 11 is revised to read as follows:

Appendix A to Part 11—Fee Schedule for FY 2023
State | County | Fee/acre/yr
Alabama | Autauga | $60.57
| Baldwin | 159.94
| Barbour | 61.34
| Bibb | 77.11
| Blount | 98.95
| Bullock | 58.84
| Butler | 67.41
| Calhoun | 116.64
| Chambers | 69.03
| Cherokee | 87.00
| Chilton | 96.94
| Choctaw | 56.31
| Clarke | 62.60
| Clay | 77.11
| Cleburne | 95.05
| Coffee | 72.33
| Colbert | 73.21
| Conecuh | 58.84
| Coosa | 62.96
| Covington | 73.73
| Crenshaw | 68.51
| Cullman | 109.25
| Dale | 82.66
| Dallas | 51.51
| DeKalb | 108.09
| Elmore | 82.30
| Escambia | 67.52
| Etowah | 105.37
| Fayette | 60.60
| Franklin | 67.33
| Geneva | 68.02
| Greene | 53.59
| Hale | 62.08
| Henry | 70.87
| Houston | 97.05
| Jackson | 83.56
| Jefferson | 121.23
| Lamar | 51.07
| Lauderdale | 99.61
| Lawrence | 104.28
| Lee | 114.00
| Limestone | 113.51
| Lowndes | 52.14
| Macon | 64.47
| Madison | 145.76
| Marengo | 55.13
| Marion | 64.25
| Marshall | 121.72
| Mobile | 130.15
| Monroe | 65.82
| Montgomery | 73.07
| Morgan | 120.95
| Perry | 60.65
| Pickens | 69.44
| Pike | 71.97
| Randolph | 86.72
| Russell | 69.80
| Shelby | 109.22
| St. Clair | 117.49
| Sumter | 51.42
| Talladega | 90.90
| Tallapoosa | 78.43
| Tuscaloosa | 92.41
| Walker | 82.93
| Washington | 55.65
| Wilcox | 49.94
| Winston | 75.95
Alaska | Aleutian Islands | 0.92
| Statewide | 49.24
Arizona | Apache | 4.56
| Cochise | 33.23
| Coconino | 3.51
| Gila | 6.45
| Graham | 10.74
| Greenlee | 25.84
| La Paz | 33.41
| Maricopa | 153.08
| Mohave | 13.91
| Navajo | 3.66
| Pima | 8.73
| Pinal | 45.81
| Santa Cruz | 33.05
| Yavapai | 27.36
| Yuma | 153.06
Arkansas | Arkansas | 64.52
| Ashley | 59.25
| Baxter | 55.08
| Benton | 132.63
| Boone | 53.97
| Bradley | 67.30
| Calhoun | 53.05
| Carroll | 56.31
| Chicot | 60.83
| Clark | 49.57
| Clay | 88.25
| Cleburne | 60.15
| Cleveland | 86.65
| Columbia | 47.56
| Conway | 52.03
| Craighead | 94.45
| Crawford | 62.82
| Crittenden | 78.85
| Cross | 69.00
| Dallas | 39.91
| Desha | 66.62
| Drew | 59.23
| Faulkner | 78.62
| Franklin | 52.50
| Fulton | 38.23
| Garland | 107.00
| Grant | 73.95
| Greene | 86.79
| Hempstead | 51.27
| Hot Spring | 56.98
| Howard | 58.46
| Independence | 47.07
| Izard | 41.91
| Jackson | 68.98
| Jefferson | 66.89
| Johnson | 57.17
| Lafayette | 52.15
| Lawrence | 73.42
| Lee | 64.97
| Lincoln | 63.10
| Little River | 49.43
| Logan | 51.17
| Lonoke | 75.41
| Madison | 64.15
| Marion | 49.92
| Miller | 52.78
| Mississippi | 70.35
| Monroe | 57.80
| Montgomery | 53.21
| Nevada | 48.44
| Newton | 49.88
| Ouachita | 45.68
| Perry | 56.47
| Phillips | 65.23
| Pike | 53.40
| Poinsett | 78.23
| Polk | 60.58
| Pope | 65.72
| Prairie | 59.79
| Pulaski | 80.44
| Randolph | 60.11
| Saline | 70.11
| Scott | 50.24
| Searcy | 38.55
| Sebastian | 68.45
| Sevier | 54.63
| Sharp | 43.65
| St. Francis | 63.64
| Stone | 44.29
| Union | 56.61
| Van Buren | 56.39
| Washington | 105.08
| White | 56.90
| Woodruff | 66.62
| Yell | 55.18
California | Alameda | 46.31
| Alpine | 29.80
| Amador | 29.03
| Butte | 78.48
| Calaveras | 23.16
| Colusa | 51.92
| Contra Costa | 45.11
| Del Norte | 54.19
| El Dorado | 64.69
| Fresno | 74.03
| Glenn | 58.10
| Humboldt | 20.14
| Imperial | 72.57
| Inyo | 4.04
| Kern | 48.10
| Kings | 70.48
| Lake | 42.72
| Lassen | 13.94
| Los Angeles | 121.09
| Madera | 71.41
| Marin | 38.20
| Mariposa | 13.45
| Mendocino | 24.95
| Merced | 85.28
| Modoc | 12.75
| Mono | 12.52
| Monterey | 48.02
| Napa | 287.76
| Nevada | 48.39
| Orange | 124.44
| Placer | 43.76
| Plumas | 14.98
| Riverside | 118.25
| Sacramento | 65.48
| San Benito | 23.26
| San Bernardino | 129.67
| San Diego | 151.26
| San Francisco | 506.77
| San Joaquin | 97.89
| San Luis Obispo | 49.18
| San Mateo | 63.67
| Santa Barbara | 67.65
| Santa Clara | 53.02
| Santa Cruz | 139.15
| Shasta | 19.02
| Sierra | 11.09
| Siskiyou | 19.98
| Solano | 59.62
| Sonoma | 144.59
| Stanislaus | 101.79
| Sutter | 62.08
| Tehama | 28.11
| Trinity | 12.52
| Tulare | 76.42
| Tuolumne | 24.21
| Ventura | 166.17
| Yolo | 63.24
| Yuba | 53.58
Colorado | Adams | 28.08
| Alamosa | 36.90
| Arapahoe | 39.34
| Archuleta | 54.03
| Baca | 13.65
| Bent | 12.01
| Boulder | 218.82
| Broomfield | 95.16
| Chaffee | 88.34
| Cheyenne | 14.59
| Clear Creek | 54.95
| Conejos | 29.37
| Costilla | 21.15
| Crowley | 8.86
| Custer | 33.82
| Delta | 83.78
| Denver | 1,109.32
| Dolores | 31.04
| Douglas | 117.45
| Eagle | 57.60
| El Paso | 24.49
| Elbert | 26.56
| Fremont | 40.66
| Garfield | 41.76
| Gilpin | 73.56
| Grand | 38.28
| Gunnison | 44.68
| Hinsdale | 32.05
| Huerfano | 16.75
| Jackson | 23.03
| Jefferson | 134.30
| Kiowa | 13.12
| Kit Carson | 21.22
| La Plata | 39.32
| Lake | 35.77
| Larimer | 80.72
| Las Animas | 10.48
| Lincoln | 12.25
| Logan | 20.68
| Mesa | 96.14
| Mineral | 59.90
| Moffat | 13.91
| Montezuma | 21.08
| Montrose | 53.84
| Morgan | 30.20
| Otero | 13.06
| Ouray | 53.16
| Park | 29.24
| Phillips | 29.45
| Pitkin | 132.59
| Prowers | 14.03
| Pueblo | 17.89
| Rio Blanco | 23.90
| Rio Grande | 54.36
| Routt | 54.68
| Saguache | 33.04
| San Juan | 27.99
| San Miguel | 25.94
| Sedgwick | 23.55
| Summit | 73.54
| Teller | 35.21
| Washington | 19.11
| Weld | 45.01
| Yuma | 28.43
Connecticut | Fairfield | 284.31
| Hartford | 424.75
| Litchfield | 298.21
| Middlesex | 392.74
| New Haven | 618.71
| New London | 302.03
| Tolland | 255.57
| Windham | 248.96
Delaware | Kent | 212.12
| New Castle | 254.31
| Sussex | 226.84
Florida | Alachua | 156.40
| Baker | 91.62
| Bay | 40.96
| Bradford | 95.39
| Brevard | 100.39
| Broward | 661.79
| Calhoun | 43.01
| Charlotte | 143.30
| Citrus | 158.34
| Clay | 114.34
| Collier | 94.83
| Columbia | 87.09
| Dade | 747.85
| DeSoto | 100.01
| Dixie | 74.33
| Duval | 150.23
| Escambia | 123.93
| Flagler | 111.13
| Franklin | 117.84
| Gadsden | 84.99
| Gilchrist | 106.26
| Glades | 86.03
| Gulf | 28.66
| Hamilton | 77.18
| Hardee | 106.58
| Hendry | 97.85
| Hernando | 209.44
| Highlands | 78.00
| Hillsborough | 233.20
| Holmes | 66.58
| Indian River | 114.72
| Jackson | 73.77
| Jefferson | 69.25
| Lafayette | 60.39
| Lake | 158.40
| Lee | 243.75
| Leon | 85.19
| Levy | 92.02
| Liberty | 78.20
| Madison | 70.43
| Manatee | 155.44
| Marion | 221.94
| Martin | 87.79
| Monroe | 117.84
| Nassau | 74.77
| Okaloosa | 95.11
| Okeechobee | 84.33
| Orange | 168.38
| Osceola | 77.48
| Palm Beach | 167.32
| Pasco | 143.00
| Pinellas | 1,147.52
| Polk | 121.09
| Putnam | 79.42
| Santa Rosa | 107.08
| Sarasota | 183.62
| Seminole | 165.17
| St. Johns | 169.88
| St. Lucie | 119.34
| Sumter | 120.32
| Suwannee | 88.22
| Taylor | 72.89
| Union | 74.33
| Volusia | 205.86
| Wakulla | 68.30
| Walton | 75.30
| Washington | 76.28
Georgia | Appling | 83.31
| Atkinson | 74.46
| Bacon | 105.54
| Baker | 56.98
| Baldwin | 55.51
| Banks | 137.98
| Barrow | 168.13
| Bartow | 154.49
| Ben Hill | 63.31
| Berrien | 80.21
| Bibb | 102.72
| Bleckley | 66.15
| Brantley | 74.85
| Brooks | 89.64
| Bryan | 78.90
| Bulloch | 73.44
| Burke | 72.90
| Butts | 99.92
| Calhoun | 77.28
| Camden | 73.46
| Candler | 81.03
| Carroll | 122.72
| Catoosa | 141.10
| Charlton | 62.23
| Chatham | 130.21
| Chattahoochee | 75.85
| Chattooga | 90.82
| Cherokee | 222.44
| Clarke | 198.34
| Clay | 60.69
| Clayton | 214.23
| Clinch | 102.13
| Cobb | 292.95
| Coffee | 77.33
| Colquitt | 84.82
| Columbia | 114.16
| Cook | 77.90
| Coweta | 123.72
| Crawford | 103.31
| Crisp | 78.59
| Dade | 102.08
| Dawson | 179.05
| Decatur | 83.59
| DeKalb | 1,203.43
| Dodge | 66.67
| Dooly | 74.92
| Dougherty | 99.21
| Douglas | 171.67
| Early | 65.87
| Echols | 71.57
| Effingham | 83.33
| Elbert | 100.64
| Emanuel | 53.62
| Evans | 69.21
| Fannin | 151.34
| Fayette | 139.52
| Floyd | 124.77
| Forsyth | 202.03
| Franklin | 147.39
| Fulton | 488.80
| Gilmer | 196.34
| Glascock | 40.82
| Glynn | 395.16
| Gordon | 167.82
| Grady | 96.41
| Greene | 91.95
| Gwinnett | 239.47
| Habersham | 183.59
| Hall | 239.29
| Hancock | 53.64
| Haralson | 121.80
| Harris | 110.82
| Hart | 144.16
| Heard | 92.59
| Henry | 191.85
| Houston | 103.10
| Irwin | 83.31
| Jackson | 163.34
| Jasper | 89.26
| Jeff Davis | 64.23
| Jefferson | 66.41
| Jenkins | 67.18
| Johnson | 53.67
| Jones | 71.95
| Lamar | 89.77
| Lanier | 77.69
| Laurens | 53.74
| Lee | 86.77
| Liberty | 135.62
| Lincoln | 80.13
| Long | 86.18
| Lowndes | 139.77
| Lumpkin | 151.93
| Macon | 82.49
| Madison | 145.23
| Marion | 60.90
| McDuffie | 76.77
| McIntosh | 60.82
| Meriwether | 83.64
| Miller | 83.13
| Mitchell | 94.92
| Monroe | 84.08
| Montgomery | 66.26
| Morgan | 119.82
| Murray | 129.95
| Muscogee | 128.28
| Newton | 114.75
| Oconee | 185.52
| Oglethorpe | 111.62
| Paulding | 148.23
| Peach | 147.85
| Pickens | 218.70
| Pierce | 73.77
| Pike | 125.57
| Polk | 92.72
| Pulaski | 68.49
| Putnam | 107.85
| Quitman | 59.15
| Rabun | 211.29
| Randolph | 72.62
| Richmond | 94.36
| Rockdale | 181.03
| Schley | 73.03
| Screven | 56.41
| Seminole | 80.54
| Spalding | 131.31
| Stephens | 148.05
| Stewart | 53.05
| Sumter | 73.31
| Talbot | 70.13
| Taliaferro | 84.41
| Tattnall | 99.33
| Taylor | 53.31
| Telfair | 56.67
| Terrell | 71.87
| Thomas | 93.33
| Tift | 81.39
| Toombs | 71.28
| Towns | 140.95
| Treutlen | 48.28
| Troup | 83.23
| Turner | 79.08
| Twiggs | 61.98
| Union | 147.98
| Upson | 101.39
| Walker | 108.69
| Walton | 145.23
| Ware | 65.77
| Warren | 76.46
| Washington | 54.00
| Wayne | 53.33
| Webster | 62.62
| Wheeler | 46.90
| White | 208.36
| Whitfield | 158.59
| Wilcox | 66.87
| Wilkes | 88.39
| Wilkinson | 52.56
| Worth | 77.00
Hawaii | Hawaii | 153.21
| Honolulu | 547.84
| Kauai | 198.46
| Maui | 253.35
Idaho | Ada | 125.77
| Adams | 20.50
| Bannock | 25.83
| Bear Lake | 19.03
| Benewah | 25.60
| Bingham | 33.64
| Blaine | 33.46
| Boise | 18.95
| Bonner | 66.59
| Bonneville | 38.55
| Boundary | 63.26
| Butte | 27.15
| Camas | 17.73
| Canyon | 108.96
| Caribou | 24.54
| Cassia | 42.18
| Clark | 23.21
| Clearwater | 32.65
| Custer | 36.05
| Elmore | 32.95
| Franklin | 30.75
| Fremont | 36.59
| Gem | 37.22
| Gooding | 79.55
| Idaho | 21.74
| Jefferson | 46.57
| Jerome | 79.86
| Kootenai | 73.06
| Latah | 33.61
| Lemhi | 33.40
| Lewis | 25.97
| Lincoln | 48.28
| Madison | 55.04
| Minidoka | 60.02
| Nez Perce | 27.49
| Oneida | 21.92
| Owyhee | 21.53
| Payette | 46.35
| Power | 32.62
| Shoshone | 88.80
| Teton | 52.29
| Twin Falls | 58.70
| Valley | 34.30
| Washington | 17.90
Illinois | Adams | 181.56
| Alexander | 95.52
| Bond | 191.83
| Boone | 217.97
| Brown | 156.22
| Bureau | 229.36
| Calhoun | 116.90
| Carroll | 224.34
| Cass | 178.54
| Champaign | 260.00
| Christian | 241.05
| Clark | 159.29
| Clay | 142.91
| Clinton | 193.33
| Coles | 219.76
| Cook | 575.84
| Crawford | 146.62
| Cumberland | 177.04
| De Witt | 234.05
| DeKalb | 262.88
| Douglas | 253.14
| DuPage | 469.02
| Edgar | 207.20
| Edwards | 149.91
| Effingham | 184.26
| Fayette | 150.64
| Ford | 216.80
| Franklin | 124.46
| Fulton | 172.82
| Gallatin | 148.10
| Greene | 172.57
| Grundy | 247.47
| Hamilton | 134.23
| Hancock | 197.88
| Hardin | 91.56
| Henderson | 194.25
| Henry | 220.51
| Iroquois | 205.05
| Jackson | 150.30
| Jasper | 157.22
| Jefferson | 116.03
| Jersey | 176.65
| Jo Daviess | 170.51
| Johnson | 103.28
| Kane | 294.63
| Kankakee | 218.28
| Kendall | 252.80
| Knox | 204.24
| La Salle | 254.64
| Lake | 339.03
| Lawrence | 157.67
| Lee | 241.89
| Livingston | 229.67
| Logan | 233.85
| Macon | 258.13
| Macoupin | 200.78
| Madison | 242.95
| Marion | 136.32
| Marshall | 225.34
| Mason | 194.87
| Massac | 108.02
| McDonough | 204.66
| McHenry | 266.25
| McLean | 274.71
| Menard | 217.86
| Mercer | 182.81
| Monroe | 185.83
| Montgomery | 203.04
| Morgan | 230.14
| Moultrie | 243.82
| Ogle | 239.96
| Peoria | 220.23
| Perry | 133.45
| Piatt | 258.41
| Pike | 165.09
| Pope | 97.42
| Pulaski | 114.50
| Putnam | 233.63
| Randolph | 151.33
| Richland | 147.34
| Rock Island | 194.37
| Saline | 134.62
| Sangamon | 249.23
| Schuyler | 153.04
| Scott | 181.33
| Shelby | 196.65
| St. Clair | 206.98
| Stark | 232.01
| Stephenson | 235.08
| Tazewell | 230.84
| Union | 118.54
| Vermilion | 228.91
| Wabash | 154.40
| Warren | 225.82
| Washington | 179.21
| Wayne | 132.94
| White | 139.06
| Whiteside | 220.23
| Will | 248.03
| Williamson | 110.31
| Winnebago | 199.17
| Woodford | 250.37
Indiana | Adams | 230.12
| Allen | 221.11
| Bartholomew | 186.01
| Benton | 215.10
| Blackford | 183.70
| Boone | 211.96
| Brown | 122.10
| Carroll | 209.68
| Cass | 173.64
| Clark | 153.39
| Clay | 141.85
| Clinton | 199.39
| Crawford | 86.05
| Daviess | 211.93
| Dearborn | 135.20
| Decatur | 197.00
| DeKalb | 154.28
| Delaware | 184.48
| Dubois | 151.72
| Elkhart | 310.89
| Fayette | 157.31
| Floyd | 151.75
| Fountain | 187.24
| Franklin | 157.70
| Fulton | 175.55
| Gibson | 180.34
| Grant | 196.33
| Greene | 137.73
| Hamilton | 243.36
| Hancock | 209.79
| Harrison | 127.24
| Hendricks | 212.43
| Henry | 166.52
| Howard | 215.97
| Huntington | 190.63
| Jackson | 147.27
| Jasper | 179.56
| Jay | 210.96
| Jefferson | 115.17
| Jennings | 126.94
| Johnson | 187.60
| Knox | 173.11
| Kosciusko | 198.03
| LaGrange | 257.24
| Lake | 193.74
| LaPorte | 204.56
| Lawrence | 103.35
| Madison | 225.51
| Marion | 293.81
| Marshall | 174.08
| Martin | 108.08
| Miami | 187.74
| Monroe | 182.70
| Montgomery | 194.24
| Morgan | 174.91
| Newton | 187.26
| Noble | 177.84
| Ohio | 121.49
| Orange | 124.85
| Owen | 126.35
| Parke | 162.43
| Perry | 111.61
| Pike | 137.15
| Porter | 188.18
| Posey | 168.91
| Pulaski | 171.05
| Putnam | 178.98
| Randolph | 178.47
| Ripley | 143.60
| Rush | 201.78
| Scott | 149.30
| Shelby | 193.16
| Spencer | 128.19
| St. Joseph | 224.92
| Starke | 139.18
| Steuben | 154.00
| Sullivan | 138.42
| Switzerland | 113.98
| Tippecanoe | 251.07
| Tipton | 227.15
| Union | 176.33
| Vanderburgh | 219.89
| Vermillion | 157.81
| Vigo | 150.88
| Wabash | 174.94
| Warren | 188.74
| Warrick | 151.00
| Washington | 125.19
| Wayne | 152.75
| Wells | 209.82
| White | 217.36
| Whitley | 176.42
Iowa | Adair | 146.12
| Adams | 139.33
| Allamakee | 149.33
| Appanoose | 113.57
| Audubon | 191.83
| Benton | 206.39
| Black Hawk | 243.71
| Boone | 222.56
| Bremer | 223.26
| Buchanan | 220.27
| Buena Vista | 224.77
| Butler | 200.30
| Calhoun | 221.89
| Carroll | 224.35
| Cass | 164.70
| Cedar | 219.55
| Cerro Gordo | 205.10
| Cherokee | 221.11
| Chickasaw | 208.51
| Clarke | 119.33
| Clay | 223.09
| Clayton | 154.92
| Clinton | 210.77
| Crawford | 189.26
| Dallas | 228.23
| Davis | 109.41
| Decatur | 107.43
| Delaware | 217.17
| Des Moines | 193.06
| Dickinson | 207.84
| Dubuque | 241.20
| Emmet | 200.66
| Fayette | 200.49
| Floyd | 205.60
| Franklin | 218.32
| Fremont | 167.69
| Greene | 231.81
| Grundy | 253.86
| Guthrie | 176.04
| Hamilton | 226.73
| Hancock | 212.92
| Hardin | 218.29
| Harrison | 172.13
| Henry | 175.09
| Howard | 208.29
| Humboldt | 225.97
| Ida | 205.27
| Iowa | 179.23
| Jackson | 166.88
| Jasper | 181.94
| Jefferson | 154.73
| Johnson | 224.55
| Jones | 194.51
| Keokuk | 163.08
| Kossuth | 220.50
| Lee | 144.33
| Linn | 232.68
| Louisa | 185.26
| Lucas | 95.36
| Lyon | 279.06
| Madison | 158.36
| Mahaska | 173.03
| Marion | 161.24
| Marshall | 212.34
| Mills | 167.41
| Mitchell | 219.74
| Monona | 160.99
| Monroe | 117.51
| Montgomery | 158.69
| Muscatine | 187.75
| O'Brien | 271.76
| Osceola | 244.80
| Page | 150.03
| Palo Alto | 223.90
| Plymouth | 239.19
| Pocahontas | 225.30
| Polk | 247.01
| Pottawattamie | 189.54
| Poweshiek | 187.42
| Ringgold | 107.68
| Sac | 221.92
| Scott | 267.88
| Shelby | 191.47
| Sioux | 290.71
| Story | 264.50
| Tama | 202.73
| Taylor | 134.44
| Union | 124.55
| Van Buren | 130.59
| Wapello | 136.23
| Warren | 157.46
| Washington | 192.47
| Wayne | 118.80
| Webster | 222.06
| Winnebago | 195.27
| Winneshiek | 178.84
| Woodbury | 206.05
| Worth | 194.34
| Wright | 211.58
Kansas | Allen | 56.12
| Anderson | 56.37
| Atchison | 84.08
| Barber | 39.72
| Barton | 43.43
| Bourbon | 55.54
| Brown | 97.00
| Butler | 62.73
| Chase | 52.86
| Chautauqua | 45.11
| Cherokee | 61.16
| Cheyenne | 40.85
| Clark | 32.83
| Clay | 75.01
| Cloud | 63.67
| Coffey | 50.48
| Comanche | 32.06
| Cowley | 51.14
| Crawford | 55.71
| Decatur | 40.33
| Dickinson | 59.19
| Doniphan | 94.90
| Douglas | 112.63
| Edwards | 50.98
| Elk | 42.73
| Ellis | 37.31
| Ellsworth | 44.48
| Finney | 43.29
| Ford | 42.79
| Franklin | 66.47
| Geary | 63.64
| Gove | 35.98
| Graham | 35.54
| Grant | 43.59
| Gray | 44.14
| Greeley | 39.17
| Greenwood | 46.11
| Hamilton | 29.48
| Harper | 45.42
| Harvey | 87.60
| Haskell | 42.24
| Hodgeman | 32.53
| Jackson | 74.04
| Jefferson | 80.32
| Jewell | 56.98
| Johnson | 104.36
| Kearny | 39.88
| Kingman | 44.78
| Kiowa | 43.45
| Labette | 58.67
| Lane | 35.24
| Leavenworth | 94.62
| Lincoln | 47.77
| Linn | 70.64
| Logan | 37.23
| Lyon | 54.99
| Marion | 56.48
| Marshall | 85.58
| McPherson | 75.76
| Meade | 40.83
| Miami | 85.61
| Mitchell | 51.67
| Montgomery | 55.60
| Morris | 44.86
| Morton | 28.32
| Nemaha | 83.14
| Neosho | 54.30
| Ness | 29.98
| Norton | 37.64
| Osage | 55.10
| Osborne | 39.00
| Ottawa | 55.62
| Pawnee | 45.86
| Phillips | 39.88
| Pottawatomie | 68.07
| Pratt | 56.84
| Rawlins | 42.65
| Reno | 59.16
| Republic | 71.53
| Rice | 56.31
| Riley | 83.59
| Rooks | 34.60
| Rush | 35.93
| Russell | 37.04
| Saline | 65.58
| Scott | 41.90
| Sedgwick | 95.81
| Seward | 39.00
| Shawnee | 82.78
| Sheridan | 43.26
| Sherman | 48.71
| Smith | 52.80
| Stafford | 49.87
| Stanton | 29.43
| Stevens | 38.36
| Sumner | 50.84
| Thomas | 48.32
| Trego | 31.56
| Wabaunsee | 53.30
| Wallace | 37.40
| Washington | 67.10
| Wichita | 38.75
| Wilson | 53.85
| Woodson | 45.97
| Wyandotte | 186.48
Kentucky | Adair | 83.73
| Allen | 96.37
| Anderson | 103.36
| Ballard | 100.60
| Barren | 100.27
| Bath | 65.70
| Bell | 55.40
| Boone | 167.13
| Bourbon | 158.22
| Boyd | 66.95
| Boyle | 103.55
| Bracken | 69.54
| Breathitt | 43.68
| Breckinridge | 85.93
| Bullitt | 143.67
| Butler | 73.71
| Caldwell | 92.95
| Calloway | 114.74
| Campbell | 140.85
| Carlisle | 105.72
| Carroll | 94.45
| Carter | 53.81
| Casey | 65.22
| Christian | 134.09
| Clark | 123.35
| Clay | 50.50
| Clinton | 77.61
| Crittenden | 76.47
| Cumberland | 57.15
| Daviess | 138.79
| Edmonson | 88.47
| Elliott | 45.07
| Estill | 66.92
| Fayette | 406.95
| Fleming | 73.57
| Floyd | 85.96
| Franklin | 110.43
| Fulton | 102.27
| Gallatin | 79.20
| Garrard | 81.20
| Grant | 92.11
| Graves | 106.48
| Grayson | 82.29
| Green | 72.24
| Greenup | 68.78
| Hancock | 82.87
| Hardin | 127.88
| Harlan | 43.54
| Harrison | 86.29
| Hart | 85.68
| Henderson | 141.86
| Henry | 107.48
| Hickman | 111.74
| Hopkins | 93.87
| Jackson | 65.58
| Jefferson | 342.28
| Jessamine | 184.84
| Johnson | 83.54
| Kenton | 155.80
| Knott | 35.60
| Knox | 66.64
| Larue | 98.79
| Laurel | 93.06
| Lawrence | 44.51
| Lee | 56.98
| Leslie | 106.34
| Letcher | 83.51
| Lewis | 58.35
| Lincoln | 90.36
| Livingston | 78.28
| Logan | 134.42
| Lyon | 86.88
| Madison | 96.54
| Magoffin | 57.62
| Marion | 96.93
| Marshall | 105.67
| Martin | 96.07
| Mason | 82.31
| McCracken | 124.04
| McCreary | 68.34
| McLean | 124.32
| Meade | 120.48
| Menifee | 53.81
| Mercer | 109.26
| Metcalfe | 74.52
| Monroe | 79.25
| Montgomery | 97.57
| Morgan | 54.23
| Muhlenberg | 83.40
| Nelson | 113.05
| Nicholas | 64.64
| Ohio | 95.15
| Oldham | 221.69
| Owen | 78.81
| Owsley | 37.36
| Pendleton | 79.06
| Perry | 31.90
| Pike | 39.36
| Powell | 64.97
| Pulaski | 90.14
| Robertson | 60.88
| Rockcastle | 60.66
| Rowan | 77.11
| Russell | 86.10
| Scott | 155.75
| Shelby | 161.70
| Simpson | 157.97
| Spencer | 126.44
| Taylor | 84.57
| Todd | 144.33
| Trigg | 114.41
| Trimble | 90.33
| Union | 140.27
| Warren | 148.48
| Washington | 89.41
| Wayne | 74.21
| Webster | 102.52
| Whitley | 70.48
| Wolfe | 56.12
| Woodford | 225.78
Louisiana | Acadia | 70.41
| Allen | 65.42
| Ascension | 92.44
| Assumption | 75.05
| Avoyelles | 64.86
| Beauregard | 77.48
| Bienville | 64.93
| Bossier | 79.59
| Caddo | 76.05
| Calcasieu | 88.72
| Caldwell | 63.91
| Cameron | 63.17
| Catahoula | 68.89
| Claiborne | 60.91
| Concordia | 71.43
| De Soto | 75.62
| East Baton Rouge | 210.35
| East Carroll | 94.66
| East Feliciana | 71.36
| Evangeline | 62.23
| Franklin | 72.30
| Grant | 69.80
| Iberia | 73.12
| Iberville | 45.79
| Jackson | 102.05
| Jefferson | 59.50
| Jefferson Davis | 56.78
| La Salle | 81.20
| Lafayette | 142.28
| Lafourche | 73.91
| Lincoln | 81.84
| Livingston | 136.42
| Madison | 70.08
| Morehouse | 81.07
| Natchitoches | 59.53
| Orleans | 263.99
| Ouachita | 108.63
| Plaquemines | 35.97
| Pointe Coupee | 78.80
| Rapides | 95.53
| Red River | 57.06
| Richland | 72.17
| Sabine | 96.34
| St. Bernard | 44.67
| St. Charles | 89.00
| St. Helena | 106.03
| St. James | 78.06
| St. John the Baptist | 89.23
| St. Landry | 74.42
| St. Martin | 81.71
| St. Mary | 84.08
| St. Tammany | 273.58
| Tangipahoa | 129.03
| Tensas | 71.46
| Terrebonne | 104.98
| Union | 77.60
| Vermilion | 73.35
| Vernon | 94.40
| Washington | 92.08
| Webster | 74.93
| West Baton Rouge | 71.89
| West Carroll | 84.03
| West Feliciana | 74.83
| Winn | 71.49
Maine | Androscoggin | 92.11
| Aroostook | 45.48
| Cumberland | 178.42
| Franklin | 64.89
| Hancock | 72.99
| Kennebec | 78.97
| Knox | 123.43
| Lincoln | 121.31
| Oxford | 76.12
| Penobscot | 64.42
| Piscataquis | 36.78
| Sagadahoc | 107.99
| Somerset | 38.56
| Waldo | 78.32
| Washington | 40.07
| York | 133.75
Maryland | Allegany | 153.12
| Anne Arundel | 282.37
| Baltimore | 405.95
| Calvert | 280.86
| Caroline | 195.13
| Carroll | 223.94
| Cecil | 219.53
| Charles | 258.99
| Dorchester | 155.42
| Frederick | 260.74
| Garrett | 124.89
| Harford | 298.64
| Howard | 250.72
| Kent | 180.97
| Montgomery | 224.89
| Prince George's | 222.68
| Queen Anne's | 200.96
| Somerset | 156.79
| St. Mary's | 272.43
| Talbot | 192.45

Appendix A to Part 11—Fee Schedule for FY 2023
State | County | Fee/acre/yr
| Washington | 220.62
| Wicomico | 192.61
| Worcester | 145.13
Massachusetts | Barnstable | 751.40
| Berkshire | 187.98
| Bristol | 447.23
| Dukes | 281.06
| Essex | 429.13
| Franklin | 157.86
| Hampden | 254.35
| Hampshire | 188.42
| Middlesex | 392.09
| Nantucket | 962.13
| Norfolk | 421.75
| Plymouth | 235.47
| Suffolk | 5,653.64
| Worcester | 302.41
Michigan | Alcona | 70.40
| Alger | 55.45
| Allegan | 162.57
| Alpena | 69.18
| Antrim | 114.24
| Arenac | 91.19
| Baraga | 59.50
| Barry | 130.50
| Bay | 137.32
| Benzie | 107.66
| Berrien | 175.18
| Branch | 115.14
| Calhoun | 144.31
| Cass | 125.63
| Charlevoix | 102.47
| Cheboygan | 69.64
| Chippewa | 58.82
| Clare | 81.84
| Clinton | 153.71
| Crawford | 95.19
| Delta | 48.52
| Dickinson | 74.12
| Eaton | 113.51
| Emmet | 102.39
| Genesee | 143.03
| Gladwin | 106.25
| Gogebic | 70.70
| Grand Traverse | 172.93
| Gratiot | 147.65
| Hillsdale | 117.12
| Houghton | 63.98
| Huron | 164.39
| Ingham | 144.74
| Ionia | 134.68
| Iosco | 85.70
| Iron | 53.71
| Isabella | 111.42
| Jackson | 135.53
| Kalamazoo | 191.76
| Kalkaska | 72.14
| Kent | 200.60
| Keweenaw | 91.74
| Lake | 66.92
| Lapeer | 125.22
| Leelanau | 198.99
| Lenawee | 142.05
| Livingston | 154.96
| Luce | 68.52
| Mackinac | 54.28
| Macomb | 138.49
| Manistee | 78.39
| Marquette | 59.96
| Mason | 84.56
| Mecosta | 95.27
| Menominee | 57.76
| Midland | 150.64
| Missaukee | 99.43
| Monroe | 167.33
| Montcalm | 108.48
| Montmorency | 58.33
| Muskegon | 174.64
| Newaygo | 105.71
| Oakland | 315.93
| Oceana | 113.05
| Ogemaw | 76.03
| Ontonagon | 43.41
| Osceola | 81.63
| Oscoda | 74.50
| Otsego | 75.56
| Ottawa | 224.82
| Presque Isle | 63.74
| Roscommon | 66.62
| Saginaw | 157.79
| Sanilac | 134.00
| Schoolcraft | 49.47
| Shiawassee | 122.61
| St. Clair | 142.81
| St. Joseph | 155.40
| Tuscola | 141.80
| Van Buren | 157.35
| Washtenaw | 212.64
| Wayne | 314.24
| Wexford | 91.55
Minnesota | Aitkin | 58.70
| Anoka | 211.26
| Becker | 80.89
| Beltrami | 54.72
| Benton | 122.19
| Big Stone | 121.02
| Blue Earth | 200.46
| Brown | 182.98
| Carlton | 59.98
| Carver | 187.66
| Cass | 69.67
| Chippewa | 164.05
| Chisago | 127.34
| Clay | 109.89
| Clearwater | 56.39
| Cook | 164.97
| Cottonwood | 175.94
| Crow Wing | 74.82
| Dakota | 192.11
| Dodge | 191.83
| Douglas | 109.83
| Faribault | 189.24
| Fillmore | 154.59
| Freeborn | 167.84
| Goodhue | 172.68
| Grant | 122.55
| Hennepin | 374.76
| Houston | 119.41
| Hubbard | 73.65
| Isanti | 108.19
| Itasca | 79.10
| Jackson | 179.19
| Kanabec | 73.82
| Kandiyohi | 145.24
| Kittson | 62.60
| Koochiching | 40.16
| Lac qui Parle | 124.64
| Lake | 101.01
| Lake of the Woods | 47.23
| Le Sueur | 171.87
| Lincoln | 134.60
| Lyon | 162.88
| Mahnomen | 82.25
| Marshall | 68.86
| Martin | 186.82
| McLeod | 159.32
| Meeker | 144.46
| Mille Lacs | 86.34
| Morrison | 92.13
| Mower | 189.63
| Murray | 171.62
| Nicollet | 194.89
| Nobles | 192.36
| Norman | 91.88
| Olmsted | 185.29
| Otter Tail | 82.64
| Pennington | 53.66
| Pine | 65.80
| Pipestone | 162.36
| Polk | 91.30
| Pope | 115.34
| Ramsey | 741.66
| Red Lake | 65.97
| Redwood | 173.66
| Renville | 182.59
| Rice | 190.86
| Rock | 212.40
| Roseau | 48.51
| Scott | 211.26
| Sherburne | 143.48
| Sibley | 187.77
| St. Louis | 55.45
| Stearns | 143.32
| Steele | 172.60
| Stevens | 141.31
| Swift | 140.37
| Todd | 76.40
| Traverse | 138.58
| Wabasha | 153.62
| Wadena | 61.23
| Waseca | 184.29
| Washington | 242.02
| Watonwan | 197.54
| Wilkin | 107.77
| Winona | 160.13
| Wright | 179.28
| Yellow Medicine | 150.53
Mississippi | Adams | 76.97
| Alcorn | 55.60
| Amite | 83.29
| Attala | 48.17
| Benton | 50.25
| Bolivar | 78.93
| Calhoun | 46.34
| Carroll | 55.79
| Chickasaw | 52.26
| Choctaw | 48.04
| Claiborne | 70.66
| Clarke | 58.37
| Clay | 48.98
| Coahoma | 86.29
| Copiah | 66.88
| Covington | 94.06
| DeSoto | 78.51
| Forrest | 110.74
| Franklin | 82.82
| George | 97.35
| Greene | 65.96
| Grenada | 57.40
| Hancock | 100.74
| Harrison | 218.50
| Hinds | 85.90
| Holmes | 63.27
| Humphreys | 85.32
| Issaquena | 71.42
| Itawamba | 44.67
| Jackson | 130.78
| Jasper | 73.19
| Jefferson | 65.75
| Jefferson Davis | 67.06
| Jones | 98.79
| Kemper | 52.76
| Lafayette | 71.49
| Lamar | 92.58
| Lauderdale | 53.62
| Lawrence | 83.78
| Leake | 78.98
| Lee | 47.80
| Leflore | 75.72
| Lincoln | 80.13
| Lowndes | 66.01
| Madison | 68.57
| Marion | 75.17
| Marshall | 62.70
| Monroe | 57.35
| Montgomery | 52.16
| Neshoba | 69.51
| Newton | 61.87
| Noxubee | 66.09
| Oktibbeha | 72.95
| Panola | 64.27
| Pearl River | 92.50
| Perry | 83.76
| Pike | 97.22
| Pontotoc | 51.35
| Prentiss | 53.39
| Quitman | 74.65
| Rankin | 86.11
| Scott | 66.43
| Sharkey | 86.37
| Simpson | 71.96
| Smith | 74.96
| Stone | 86.31
| Sunflower | 83.08
| Tallahatchie | 73.58
| Tate | 73.71
| Tippah | 54.06
| Tishomingo | 49.31
| Tunica | 77.10
| Union | 52.16
| Walthall | 80.99
| Warren | 63.33
| Washington | 96.75
| Wayne | 80.78
| Webster | 47.83
| Wilkinson | 62.65
| Winston | 59.41
| Yalobusha | 48.64
| Yazoo | 72.77
Missouri | Adair | 76.30
| Andrew | 105.02
| Atchison | 133.99
| Audrain | 116.31
| Barry | 93.71
| Barton | 75.24
| Bates | 84.45
| Benton | 74.80
| Bollinger | 68.51
| Boone | 154.52
| Buchanan | 110.76
| Butler | 128.31
| Caldwell | 86.63
| Callaway | 108.22
| Camden | 60.34
| Cape Girardeau | 118.69
| Carroll | 97.84
| Carter | 52.17
| Cass | 102.73
| Cedar | 68.02
| Chariton | 93.98
| Christian | 110.05
| Clark | 97.70
| Clay | 113.93
| Clinton | 101.69
| Cole | 99.64
| Cooper | 89.31
| Crawford | 70.59
| Dade | 76.71
| Dallas | 69.36
| Daviess | 89.23
| DeKalb | 89.45
| Dent | 57.14
| Douglas | 57.39
| Dunklin | 139.10
| Franklin | 105.60
| Gasconade | 76.16
| Gentry | 84.66
| Greene | 129.67
| Grundy | 80.02
| Harrison | 75.65
| Henry | 73.51
| Hickory | 57.61
| Holt | 133.72
| Howard | 82.61
| Howell | 58.59
| Iron | 56.43
| Jackson | 158.89
| Jasper | 88.03
| Jefferson | 114.78
| Johnson | 91.39
| Knox | 83.13
| Laclede | 68.79
| Lafayette | 123.94
| Lawrence | 87.40
| Lewis | 90.51
| Lincoln | 119.18
| Linn | 78.79
| Livingston | 92.15
| Macon | 87.29
| Madison | 57.36
| Maries | 53.86
| Marion | 108.39
| McDonald | 73.30
| Mercer | 73.60
| Miller | 68.24
| Mississippi | 159.52
| Moniteau | 97.56
| Monroe | 97.26
| Montgomery | 103.06
| Morgan | 104.86
| New Madrid | 152.79
| Newton | 99.45
| Nodaway | 109.64
| Oregon | 48.67
| Osage | 66.00
| Ozark | 58.29
| Pemiscot | 143.07
| Perry | 89.45
| Pettis | 95.65
| Phelps | 72.04
| Pike | 96.09
| Platte | 121.04
| Polk | 69.00
| Pulaski | 61.13
| Putnam | 68.87
| Ralls | 105.22
| Randolph | 94.58
| Ray | 96.09
| Reynolds | 43.70
| Ripley | 66.85
| Saline | 109.59
| Schuyler | 70.54
| Scotland | 92.10
| Scott | 139.02
| Shannon | 53.65
| Shelby | 101.91
| St Louis | 118.82
| St. Charles | 133.50
| St. Clair | 67.04
| St. Francois | 80.15
| Ste. Genevieve | 80.65
| Stoddard | 146.29
| Stone | 79.09
| Sullivan | 63.89
| Taney | 61.08
| Texas | 56.46
| Vernon | 77.64
| Warren | 110.63
| Washington | 64.82
| Wayne | 64.22
| Webster | 84.77
| Worth | 77.72
| Wright | 58.98
Montana | Beaverhead | 27.74
| Big Horn | 8.28
| Blaine | 12.47
| Broadwater | 24.64
| Carbon | 31.25
| Carter | 11.33
| Cascade | 25.53
| Chouteau | 19.65
| Custer | 11.29
| Daniels | 13.35
| Dawson | 14.07
| Deer Lodge | 40.92
| Fallon | 12.72
| Fergus | 23.04
| Flathead | 134.56
| Gallatin | 63.82
| Garfield | 8.51
| Glacier | 24.58
| Golden Valley | 14.11
| Granite | 34.08
| Hill | 18.13
| Jefferson | 35.85
| Judith Basin | 19.57
| Lake | 33.82
| Lewis and Clark | 27.51
| Liberty | 18.89
| Lincoln | 110.57
| Madison | 36.01
| McCone | 11.12
| Meagher | 19.12
| Mineral | 105.35
| Missoula | 58.89
| Musselshell | 13.46
| Park | 54.95
| Petroleum | 14.28
| Phillips | 11.16
| Pondera | 25.42
| Powder River | 11.60
| Powell | 27.27
| Prairie | 16.30
| Ravalli | 120.76
| Richland | 18.47
| Roosevelt | 15.21
| Rosebud | 9.06
| Sanders | 20.81
| Sheridan | 14.62
| Silver Bow | 47.41
| Stillwater | 28.31
| Sweet Grass | 23.93
| Teton | 24.98
| Toole | 18.47
| Treasure | 12.17
| Valley | 13.56
| Wheatland | 14.60
| Wibaux | 12.99
| Yellowstone | 21.12
Nebraska | Adams | 134.74
| Antelope | 116.14
| Arthur | 20.28
| Banner | 22.07
| Blaine | 25.14
| Boone | 112.62
| Box Butte | 33.77
| Boyd | 51.34
| Brown | 29.67
| Buffalo | 111.20
| Burt | 155.93
| Butler | 144.11
| Cass | 141.93
| Cedar | 131.18
| Chase | 52.78
| Cherry | 23.62
| Cheyenne | 25.82
| Clay | 122.77
| Colfax | 156.79
| Cuming | 154.08
| Custer | 62.65
| Dakota | 143.17
| Dawes | 22.50
| Dawson | 86.37
| Deuel | 33.03
| Dixon | 118.37
| Dodge | 162.31
| Douglas | 193.50
| Dundy | 38.73
| Fillmore | 137.91
| Franklin | 87.64
| Frontier | 47.56
| Furnas | 62.45
| Gage | 112.06
| Garden | 21.92
| Garfield | 37.54
| Gosper | 71.18
| Grant | 21.19
| Greeley | 75.05
| Hall | 128.67
| Hamilton | 160.51
| Harlan | 72.85
| Hayes | 35.82
| Hitchcock | 39.84
| Holt | 60.25
| Hooker | 18.61
| Howard | 88.37
| Jefferson | 105.08
| Johnson | 91.91
| Kearney | 132.44
| Keith | 41.16
| Keya Paha | 35.84
| Kimball | 27.21
| Knox | 84.67
| Lancaster | 141.71
| Lincoln | 42.38
| Logan | 30.38
| Loup | 29.44
| Madison | 147.30
| McPherson | 20.73
| Merrick | 128.44
| Morrill | 28.98
| Nance | 107.00
| Nemaha | 115.13
| Nuckolls | 90.83
| Otoe | 125.48
| Pawnee | 82.12
| Perkins | 54.17
| Phelps | 129.45
| Pierce | 123.33
| Platte | 160.18
| Polk | 149.63
| Red Willow | 49.29
| Richardson | 108.01
| Rock | 28.81
| Saline | 119.38
| Sarpy | 188.31
| Saunders | 142.79
| Scotts Bluff | 51.59
| Seward | 144.54
| Sheridan | 24.55
| Sherman | 67.74
| Sioux | 22.81
| Stanton | 126.34
| Thayer | 99.23
| Thomas | 19.74
| Thurston | 122.19
| Valley | 72.85
| Washington | 165.02
| Wayne | 139.53
| Webster | 69.33
| Wheeler | 38.68
| York | 174.11
Nevada | Carson City | 6.44
| Churchill | 13.56
| Clark | 22.02
| Douglas | 14.55
| Elko | 3.89
| Esmeralda | 14.75
| Eureka | 3.54
| Humboldt | 6.28
| Lander | 7.43
| Lincoln | 18.24
| Lyon | 16.19
| Mineral | 2.08
| Nye | 12.27
| Pershing | 5.67
| Storey | 6.44
| Washoe | 7.27
| White Pine | 9.39
New Hampshire | Belknap | 130.52
| Carroll | 104.36
| Cheshire | 100.70
| Coos | 68.10
| Grafton | 103.78
| Hillsborough | 206.52
| Merrimack | 154.00
| Rockingham | 299.64
| Strafford | 172.47
| Sullivan | 127.28
New Jersey | Atlantic | 319.76
| Bergen | 2,492.05
| Burlington | 251.82
| Camden | 411.33
| Cape May | 364.78
| Cumberland | 245.53
| Essex | 2,115.16
| Gloucester | 317.56
| Hudson | 1,260.32
| Hunterdon | 391.24
| Mercer | 453.79
| Middlesex | 545.46
| Monmouth | 525.64
| Morris | 536.76
| Ocean | 476.76
| Passaic | 800.49
| Salem | 210.94
| Somerset | 495.43
| Sussex | 288.97
| Union | 3,919.18
| Warren | 305.23
New Mexico | Bernalillo | 55.47
| Catron | 8.44
| Chaves | 9.51
| Cibola | 6.37
| Colfax | 10.15
| Curry | 13.97
| De Baca | 7.54
| Dona Ana | 49.94
| Eddy | 11.88
| Grant | 9.79
| Guadalupe | 6.25
| Harding | 7.36
| Hidalgo | 10.47
| Lea | 8.28
| Lincoln | 10.01
| Los Alamos | 10.47
| Luna | 10.35
| McKinley | 8.60
| Mora | 11.10
| Otero | 8.83
| Quay | 7.08
| Rio Arriba | 17.25
| Roosevelt | 9.19
| San Juan | 10.74
| San Miguel | 8.08
| Sandoval | 9.03
| Santa Fe | 17.71
| Sierra | 7.26
| Socorro | 12.63
| Taos | 32.87
| Torrance | 9.59
| Union | 8.30
| Valencia | 23.36
New York | Albany | 120.70
| Allegany | 54.65
| Bronx | 87.66
| Broome | 83.86
| Cattaraugus | 62.20
| Cayuga | 107.37
| Chautauqua | 71.81
| Chemung | 71.10
| Chenango | 55.82
| Clinton | 71.81
| Columbia | 113.70
| Cortland | 62.98
| Delaware | 78.19
| Dutchess | 245.42
| Erie | 124.23
| Essex | 64.67
| Franklin | 67.52
| Fulton | 75.77
| Genesee | 90.81
| Greene | 85.68
| Hamilton | 90.70
| Herkimer | 62.14
| Jefferson | 72.68
| Kings | 12,043.04
| Lewis | 54.54
| Livingston | 100.77
| Madison | 71.16
| Monroe | 116.90
| Montgomery | 67.46
| Nassau | 471.35
| New York | 87.66
| Niagara | 83.34
| Oneida | 72.19
| Onondaga | 111.90
| Ontario | 109.33
| Orange | 188.30
| Orleans | 86.14
| Oswego | 60.08
| Otsego | 72.38
| Putnam | 162.92
| Queens | 1,317.15
| Rensselaer | 95.37
| Richmond | 87.66
| Rockland | 781.11
| Saratoga | 159.90
| Schenectady | 116.41
| Schoharie | 66.11
| Schuyler | 88.77
| Seneca | 101.97
| St. Lawrence | 49.74
| Steuben | 56.98
| Suffolk | 331.72
| Sullivan | 114.38
| Tioga | 62.03
| Tompkins | 102.86
| Ulster | 187.30
| Warren | 113.32
| Washington | 75.85
| Wayne | 93.31
| Westchester | 289.02
| Wyoming | 94.01
| Yates | 141.90
North Carolina | Alamance | 163.56
| Alexander | 153.53
| Alleghany | 134.58
| Anson | 111.38
| Ashe | 143.33
| Avery | 177.02
| Beaufort | 93.23
| Bertie | 82.65
| Bladen | 90.88
| Brunswick | 106.86
| Buncombe | 271.20
| Burke | 155.41
| Cabarrus | 237.40
| Caldwell | 123.70
| Camden | 86.74
| Carteret | 123.65
| Caswell | 88.35
| Catawba | 178.36
| Chatham | 150.06
| Cherokee | 133.73
| Chowan | 95.24
| Clay | 171.11
| Cleveland | 127.14
| Columbus | 88.97
| Craven | 107.32
| Cumberland | 140.82
| Currituck | 133.73
| Dare | 114.68
| Davidson | 158.02
| Davie | 138.72
| Duplin | 130.79
| Durham | 290.48
| Edgecombe | 83.11
| Forsyth | 253.70
| Franklin | 96.93
| Gaston | 167.40
| Gates | 98.82
| Graham | 130.52
| Granville | 94.97
| Greene | 107.54
| Guilford | 222.93
| Halifax | 69.95
| Harnett | 151.97
| Haywood | 176.12
| Henderson | 211.42
| Hertford | 87.20
| Hoke | 120.00
| Hyde | 81.07
| Iredell | 148.24
| Jackson | 223.39
| Johnston | 129.24
| Jones | 110.51
| Lee | 157.12
| Lenoir | 108.49
| Lincoln | 156.22
| Macon | 217.15
| Madison | 135.18
| Martin | 73.00
| McDowell | 143.33
| Mecklenburg | 934.67
| Mitchell | 158.51
| Montgomery | 129.29
| Moore | 139.05
| Nash | 126.13
| New Hanover | 927.88
| Northampton | 76.24
| Onslow | 171.30
| Orange | 182.26
| Pamlico | 99.55
| Pasquotank | 108.60
| Pender | 145.81
| Perquimans | 97.04
| Person | 102.99
| Pitt | 104.81
| Polk | 175.61
| Randolph | 137.71
| Richmond | 118.99
| Robeson | 90.37
| Rockingham | 105.58
| Rowan | 159.47
| Rutherford | 130.35
| Sampson | 133.33
| Scotland | 98.13
| Stanly | 125.37
| Stokes | 111.33
| Surry | 121.88
| Swain | 99.72
| Transylvania | 210.85
| Tyrrell | 113.07
| Union | 145.46
| Vance | 81.18
| Wake | 317.79
| Warren | 79.30
| Washington | 99.99
| Watauga | 175.52
| Wayne | 136.02
| Wilkes | 139.68
| Wilson | 103.15
| Yadkin | 149.14
| Yancey | 148.46
North Dakota | Adams | 29.75
| Barnes | 64.43
| Benson | 38.14
| Billings | 25.62
| Bottineau | 43.10
| Bowman | 28.66
| Burke | 29.38
| Burleigh | 52.97
| Cass | 103.65
| Cavalier | 57.99
| Dickey | 66.21
| Divide | 29.80
| Dunn | 31.98
| Eddy | 40.56
| Emmons | 44.19
| Foster | 55.98
| Golden Valley | 29.33
| Grand Forks | 95.10
| Grant | 29.86
| Griggs | 49.54
| Hettinger | 39.17
| Kidder | 35.07
| LaMoure | 70.78
| Logan | 33.20
| McHenry | 30.36
| McIntosh | 38.03
| McKenzie | 28.60
| McLean | 49.76
| Mercer | 38.14
| Morton | 39.14
| Mountrail | 35.63
| Nelson | 37.92
| Oliver | 40.23
| Pembina | 76.86
| Pierce | 39.28
| Ramsey | 50.43
| Ransom | 56.09
| Renville | 44.75
| Richland | 88.91
| Rolette | 35.69
| Sargent | 77.70
| Sheridan | 30.61
| Sioux | 34.65
| Slope | 29.47
| Stark | 37.11
| Steele | 61.25
| Stutsman | 55.90
| Towner | 38.61
| Traill | 85.98
| Walsh | 70.06
| Ward | 45.53
| Wells | 47.70
| Williams | 30.56
Ohio | Adams | 107.91
| Allen | 201.70
| Ashland | 168.87
| Ashtabula | 121.56
| Athens | 89.31
| Auglaize | 226.30
| Belmont | 106.44
| Brown | 122.53
| Butler | 229.47
| Carroll | 130.93
| Champaign | 199.31
| Clark | 209.65
| Clermont | 155.81
| Clinton | 165.62
| Columbiana | 160.37
| Coshocton | 146.74
| Crawford | 179.18
| Cuyahoga | 453.49
| Darke | 231.25
| Defiance | 159.45
| Delaware | 217.49
| Erie | 181.91
| Fairfield | 214.10
| Fayette | 198.53
| Franklin | 223.52
| Fulton | 194.17
| Gallia | 87.37
| Geauga | 201.39
| Greene | 198.48
| Guernsey | 103.46
| Hamilton | 369.52
| Hancock | 167.95
| Hardin | 163.67
| Harrison | 92.01
| Henry | 182.08
| Highland | 139.57
| Hocking | 125.84
| Holmes | 215.18
| Huron | 169.09
| Jackson | 78.22
| Jefferson | 151.89
| Knox | 168.09
| Lake | 226.89
| Lawrence | 91.37
| Licking | 183.91
| Logan | 168.20
| Lorain | 208.04
| Lucas | 230.08
| Madison | 192.75
| Mahoning | 184.19
| Marion | 162.28
| Medina | 217.74
| Meigs | 96.37
| Mercer | 268.89
| Miami | 206.29
| Monroe | 90.84
| Montgomery | 200.53
| Morgan | 96.12
| Morrow | 166.84
| Muskingum | 114.00
| Noble | 85.56
| Ottawa | 150.36
| Paulding | 174.01
| Perry | 127.15
| Pickaway | 167.70
| Pike | 115.53
| Portage | 180.99
| Preble | 177.82
| Putnam | 186.08
| Richland | 208.62
| Ross | 127.40
| Sandusky | 164.73
| Scioto | 87.23
| Seneca | 163.70
| Shelby | 213.71
| Stark | 256.96
| Summit | 371.52
| Trumbull | 120.39
| Tuscarawas | 154.42
| Union | 176.52
| Van Wert | 208.32
| Vinton | 88.01
| Warren | 217.49
| Washington | 88.65
| Wayne | 248.51
| Williams | 143.46
| Wood | 185.11
| Wyandot | 158.61
Oklahoma | Adair | 65.52
| Alfalfa | 46.65
| Atoka | 50.24
| Beaver | 24.60
| Beckham | 36.49
| Blaine | 44.59
| Bryan | 62.10
| Caddo | 47.44
| Canadian | 64.34
| Carter | 55.61
| Cherokee | 68.01
| Choctaw | 48.59
| Cimarron | 22.60
| Cleveland | 132.88
| Coal | 49.88
| Comanche | 52.81
| Cotton | 37.23
| Craig | 57.66
| Creek | 60.07
| Custer | 39.77
| Delaware | 74.75
| Dewey | 37.55
| Ellis | 27.23
| Garfield | 47.55
| Garvin | 52.51
| Grady | 57.47
| Grant | 43.96
| Greer | 31.66
| Harmon | 34.29
| Harper | 30.16
| Haskell | 52.10
| Hughes | 43.69
| Jackson | 38.29
| Jefferson | 42.35
| Johnston | 51.28
| Kay | 45.06
| Kingfisher | 52.67
| Kiowa | 34.35
| Latimer | 49.20
| Le Flore | 59.22
| Lincoln | 61.38
| Logan | 61.36
| Love | 67.25
| Major | 40.65
| Marshall | 66.34
| Mayes | 76.15
| McClain | 72.20
| McCurtain | 58.65
| McIntosh | 52.07
| Murray | 58.56
| Muskogee | 61.80
| Noble | 48.73
| Nowata | 56.51
| Okfuskee | 46.92
| Oklahoma | 177.50
| Okmulgee | 60.59
| Osage | 43.61
| Ottawa | 76.04
| Pawnee | 48.84
| Payne | 66.32
| Pittsburg | 47.99
| Pontotoc | 59.39
| Pottawatomie | 61.74
| Pushmataha | 42.24
| Roger Mills | 35.12
| Rogers | 79.71
| Seminole | 49.94
| Sequoyah | 60.02
| Stephens | 48.18
| Texas | 27.75
| Tillman | 36.35
| Tulsa | 159.67
| Wagoner | 77.60
| Washington | 64.48
| Washita | 40.70
| Woods | 36.32
| Woodward | 33.31
Oregon | Baker | 24.24
| Benton | 124.83
| Clackamas | 417.13
| Clatsop | 138.69
| Columbia | 167.79
| Coos | 59.10
| Crook | 18.52
| Curry | 68.66
| Deschutes | 168.04
| Douglas | 66.19
| Gilliam | 13.96
| Grant | 20.07
| Harney | 13.22
| Hood River | 270.01
| Jackson | 164.69
| Jefferson | 16.58
| Josephine | 348.85
| Klamath | 42.44
| Lake | 20.96
| Lane | 165.89
| Lincoln | 106.60
| Linn | 137.51
| Malheur | 28.85
| Marion | 239.78
| Morrow | 21.85
| Multnomah | 404.82
| Polk | 137.97
| Sherman | 16.48
| Tillamook | 151.16
| Umatilla | 35.37
| Union | 35.13
| Wallowa | 31.64
| Wasco | 17.66
| Washington | 331.53
| Wheeler | 17.55
| Yamhill | 197.34
Pennsylvania | Adams | 189.72
| Allegheny | 241.51
| Armstrong | 100.40
| Beaver | 166.68
| Bedford | 112.30
| Berks | 308.82
| Blair | 185.89
| Bradford | 99.82
| Bucks | 259.20
| Butler | 145.77
| Cambria | 127.59
| Cameron | 78.36
| Carbon | 182.36
| Centre | 184.59
| Chester | 334.47
| Clarion | 88.44
| Clearfield | 99.40
| Clinton | 180.13
| Columbia | 166.11
| Crawford | 92.05
| Cumberland | 209.75
| Dauphin | 242.20
| Delaware | 396.60
| Elk | 115.66
| Erie | 124.28
| Fayette | 114.09
| Forest | 135.00
| Franklin | 207.41
| Fulton | 115.03
| Greene | 100.40
| Huntingdon | 132.63
| Indiana | 99.18
| Jefferson | 91.30
| Juniata | 179.69
| Lackawanna | 146.05
| Lancaster | 503.77
| Lawrence | 120.89
| Lebanon | 396.74
| Lehigh | 216.25
| Luzerne | 167.04
| Lycoming | 141.03
| McKean | 78.47
| Mercer | 110.12
| Mifflin | 170.24
| Monroe | 162.33
| Montgomery | 533.39
| Montour | 177.48
| Northampton | 206.74
| Northumberland | 161.78
| Perry | 182.64
| Philadelphia | 1,617.56
| Pike | 61.33
| Potter | 94.47
| Schuylkill | 183.08
| Snyder | 202.01
| Somerset | 88.80
| Sullivan | 112.71
| Susquehanna | 130.59
| Tioga | 104.61
| Union | 264.46
| Venango | 104.61
| Warren | 95.35
| Washington | 179.39
| Wayne | 118.30
| Westmoreland | 162.80
| Wyoming | 114.17
| York | 225.95
Puerto Rico | All Areas | 149.23
Rhode Island | Bristol | 1,050.42
| Kent | 329.79
| Newport | 568.65
| Providence | 332.15
| Washington | 317.05
South Carolina | Abbeville | 83.76
| Aiken | 101.92
| Allendale | 59.68
| Anderson | 153.54
| Bamberg | 79.33
| Barnwell | 75.35
| Beaufort | 97.99
| Berkeley | 72.32
| Calhoun | 82.54
| Charleston | 253.48
| Cherokee | 91.01
| Chester | 89.90
| Chesterfield | 79.87
| Clarendon | 61.52
| Colleton | 81.98
| Darlington | 70.23
| Dillon | 61.98
| Dorchester | 76.05
| Edgefield | 95.42
| Fairfield | 77.57
| Florence | 85.66
| Georgetown | 55.27
| Greenville | 248.58
| Greenwood | 92.42
| Hampton | 65.99
| Horry | 122.02
| Jasper | 99.05
| Kershaw | 83.57
| Lancaster | 106.92
| Laurens | 103.73
| Lee | 65.36
| Lexington | 149.70
| Marion | 63.07
| Marlboro | 52.13
| McCormick | 54.22
| Newberry | 89.66
| Oconee | 172.75
| Orangeburg | 81.65
| Pickens | 190.74
| Richland | 129.78
| Saluda | 83.68
| Spartanburg | 222.69
| Sumter | 81.03
| Union | 68.56
| Williamsburg | 60.74
| York | 188.82
South Dakota | Aurora | 73.68
| Beadle | 74.76
| Bennett | 26.43
| Bon Homme | 110.60
| Brookings | 127.76
| Brown | 93.33
| Brule | 71.57
| Buffalo | 42.89
| Butte | 26.62
| Campbell | 50.83
| Charles Mix | 77.40
| Clark | 87.45
| Clay | 130.54
| Codington | 96.25
| Corson | 25.51
| Custer | 44.31
| Davison | 94.33
| Day | 73.43
| Deuel | 95.72
| Dewey | 26.93
| Douglas | 103.30
| Edmunds | 68.29
| Fall River | 19.88
| Faulk | 70.71
| Grant | 103.52
| Gregory | 52.16
| Haakon | 25.62
| Hamlin | 108.99
| Hand | 57.08
| Hanson | 119.99
| Harding | 18.46
| Hughes | 52.50
| Hutchinson | 124.79
| Hyde | 42.39
| Jackson | 24.29
| Jerauld | 66.38
| Jones | 31.73

Appendix A to Part 11—Fee Schedule for FY 2023
State | County | Fee/acre/yr
| Kingsbury | 105.77
| Lake | 142.17
| Lawrence | 49.67
| Lincoln | 191.72
| Lyman | 45.83
| Marshall | 78.12
| McCook | 121.24
| McPherson | 59.80
| Meade | 26.40
| Mellette | 26.79
| Miner | 98.08
| Minnehaha | 179.04
| Moody | 161.57
| Pennington | 18.70
| Perkins | 29.37
| Potter | 23.07
| Roberts | 58.69
| Sanborn | 83.48
| Shannon | 79.32
| Spink | 86.95
| Stanley | 25.57
| Sully | 59.80
| Todd | 23.60
| Tripp | 44.97
| Turner | 139.34
| Union | 163.10
| Walworth | 54.97
| Yankton | 122.76
| Ziebach | 23.74
Tennessee | Anderson | 151.90
| Bedford | 115.82
| Benton | 69.18
| Bledsoe | 95.75
| Blount | 178.89
| Bradley | 168.58
| Campbell | 115.01
| Cannon | 99.70
| Carroll | 76.02
| Carter | 144.51
| Cheatham | 126.66
| Chester | 70.60
| Claiborne | 86.94
| Clay | 92.64
| Cocke | 123.05
| Coffee | 114.10
| Crockett | 93.53
| Cumberland | 112.37
| Davidson | 249.54
| Decatur | 61.40
| DeKalb | 94.06
| Dickson | 116.77
| Dyer | 93.50
| Fayette | 93.75
| Fentress | 96.50
| Franklin | 113.99
| Gibson | 98.42
| Giles | 91.03
| Grainger | 105.56
| Greene | 124.88
| Grundy | 96.14
| Hamblen | 153.07
| Hamilton | 273.78
| Hancock | 73.99
| Hardeman | 63.62
| Hardin | 62.04
| Hawkins | 103.59
| Haywood | 92.25
| Henderson | 70.10
| Henry | 92.39
| Hickman | 87.66
| Houston | 89.86
| Humphreys | 77.35
| Jackson | 86.30
| Jefferson | 143.12
| Johnson | 110.43
| Knox | 273.64
| Lake | 97.59
| Lauderdale | 94.09
| Lawrence | 91.61
| Lewis | 79.47
| Lincoln | 101.81
| Loudon | 158.15
| Macon | 104.59
| Madison | 90.69
| Marion | 90.44
| Marshall | 97.23
| Maury | 112.21
| McMinn | 129.69
| McNairy | 61.23
| Meigs | 92.47
| Monroe | 118.18
| Montgomery | 136.67
| Moore | 100.64
| Morgan | 85.00
| Obion | 100.03
| Overton | 93.78
| Perry | 61.59
| Pickett | 97.31
| Polk | 114.32
| Putnam | 129.22
| Rhea | 119.82
| Roane | 146.37
| Robertson | 146.90
| Rutherford | 204.60
| Scott | 74.24
| Sequatchie | 107.40
| Sevier | 169.94
| Shelby | 145.56
| Smith | 95.92
| Stewart | 73.66
| Sullivan | 196.37
| Sumner | 147.65
| Tipton | 91.44
| Trousdale | 95.39
| Unicoi | 198.59
| Union | 113.74
| Van Buren | 93.11
| Warren | 96.06
| Washington | 218.77
| Wayne | 65.79
| Weakley | 100.51
| White | 106.06
| Williamson | 168.46
| Wilson | 136.50
Texas | Anderson | 75.24
| Andrews | 20.88
| Angelina | 96.68
| Aransas | 44.68
| Archer | 39.43
| Armstrong | 24.65
| Atascosa | 60.57
| Austin | 103.63
| Bailey | 22.60
| Bandera | 67.15
| Bastrop | 109.15
| Baylor | 27.38
| Bee | 54.31
| Bell | 87.08
| Bexar | 157.57
| Blanco | 79.12
| Borden | 23.43
| Bosque | 65.88
| Bowie | 79.67
| Brazoria | 124.19
| Brazos | 150.94
| Brewster | 18.07
| Briscoe | 23.69
| Brooks | 41.18
| Brown | 63.97
| Burleson | 90.92
| Burnet | 78.64
| Caldwell | 101.38
| Calhoun | 56.88
| Callahan | 45.95
| Cameron | 94.45
| Camp | 87.40
| Carson | 36.06
| Cass | 62.22
| Castro | 36.61
| Chambers | 62.80
| Cherokee | 82.43
| Childress | 24.54
| Clay | 51.05
| Cochran | 24.57
| Coke | 25.52
| Coleman | 43.59
| Collin | 263.88
| Collingsworth | 26.90
| Colorado | 79.83
| Comal | 90.61
| Comanche | 70.02
| Concho | 39.13
| Cooke | 87.74
| Coryell | 69.14
| Cottle | 29.45
| Crane | 22.50
| Crockett | 21.54
| Crosby | 25.74
| Culberson | 19.53
| Dallam | 30.09
| Dallas | 214.83
| Dawson | 27.59
| Deaf Smith | 29.93
| Delta | 52.21
| Denton | 253.38
| DeWitt | 81.51
| Dickens | 28.26
| Dimmit | 37.41
| Donley | 22.95
| Duval | 45.02
| Eastland | 52.11
| Ector | 30.72
| Edwards | 31.04
| El Paso | 106.52
| Ellis | 85.19
| Erath | 84.00
| Falls | 66.67
| Fannin | 76.23
| Fayette | 106.98
| Fisher | 30.01
| Floyd | 26.69
| Foard | 29.61
| Fort Bend | 82.33
| Franklin | 82.25
| Freestone | 68.05
| Frio | 49.03
| Gaines | 30.64
| Galveston | 140.59
| Garza | 26.66
| Gillespie | 80.63
| Glasscock | 24.38
| Goliad | 70.52
| Gonzales | 84.37
| Gray | 30.35
| Grayson | 179.62
| Gregg | 149.88
| Grimes | 102.07
| Guadalupe | 103.29
| Hale | 34.52
| Hall | 24.38
| Hamilton | 66.59
| Hansford | 35.61
| Hardeman | 27.70
| Hardin | 82.96
| Harris | 229.10
| Harrison | 69.73
| Hartley | 32.93
| Haskell | 27.91
| Hays | 259.29
| Hemphill | 29.56
| Henderson | 84.58
| Hidalgo | 114.59
| Hill | 67.10
| Hockley | 26.74
| Hood | 90.95
| Hopkins | 77.42
| Houston | 74.05
| Howard | 24.54
| Hudspeth | 23.96
| Hunt | 82.09
| Hutchinson | 25.68
| Irion | 26.40
| Jack | 61.90
| Jackson | 77.21
| Jasper | 85.09
| Jeff Davis | 18.23
| Jefferson | 62.48
| Jim Hogg | 46.09
| Jim Wells | 54.89
| Johnson | 104.83
| Jones | 30.27
| Karnes | 64.90
| Kaufman | 79.86
| Kendall | 82.14
| Kenedy | 19.55
| Kent | 22.74
| Kerr | 66.25
| Kimble | 52.85
| King | 18.39
| Kinney | 32.93
| Kleberg | 35.02
| Knox | 29.56
| La Salle | 42.03
| Lamar | 66.51
| Lamb | 33.06
| Lampasas | 75.03
| Lavaca | 93.15
| Lee | 97.53
| Leon | 80.58
| Liberty | 79.81
| Limestone | 48.87
| Lipscomb | 29.82
| Live Oak | 57.28
| Llano | 69.51
| Loving | 5.07
| Lubbock | 45.16
| Lynn | 26.72
| Madison | 79.49
| Marion | 53.14
| Martin | 23.61
| Mason | 61.50
| Matagorda | 63.60
| Maverick | 37.28
| McCulloch | 52.29
| McLennan | 95.73
| McMullen | 48.18
| Medina | 70.95
| Menard | 39.32
| Midland | 42.69
| Milam | 83.92
| Mills | 66.57
| Mitchell | 26.45
| Montague | 72.48
| Montgomery | 302.83
| Moore | 30.09
| Morris | 60.57
| Motley | 22.47
| Nacogdoches | 76.81
| Navarro | 62.32
| Newton | 58.93
| Nolan | 29.24
| Nueces | 80.97
| Ochiltree | 32.69
| Oldham | 21.62
| Orange | 122.55
| Palo Pinto | 64.74
| Panola | 70.84
| Parker | 113.98
| Parmer | 29.85
| Pecos | 18.36
| Polk | 79.89
| Potter | 26.96
| Presidio | 20.77
| Rains | 92.30
| Randall | 41.97
| Reagan | 22.23
| Real | 50.97
| Red River | 51.13
| Reeves | 13.96
| Refugio | 33.16
| Roberts | 20.19
| Robertson | 76.65
| Rockwall | 146.88
| Runnels | 36.69
| Rusk | 67.95
| Sabine | 59.86
| San Augustine | 74.82
| San Jacinto | 108.78
| San Patricio | 70.31
| San Saba | 64.98
| Schleicher | 31.33
| Scurry | 27.75
| Shackelford | 34.23
| Shelby | 93.05
| Sherman | 37.97
| Smith | 139.24
| Somervell | 83.12
| Starr | 48.66
| Stephens | 46.40
| Sterling | 17.99
| Stonewall | 24.25
| Sutton | 33.70
| Swisher | 27.75
| Tarrant | 161.95
| Taylor | 54.47
| Terrell | 19.93
| Terry | 27.04
| Throckmorton | 37.36
| Titus | 66.86
| Tom Green | 41.71
| Travis | 165.98
| Trinity | 70.15
| Tyler | 90.53
| Upshur | 91.35
| Upton | 21.44
| Uvalde | 34.46
| Val Verde | 26.74
| Van Zandt | 97.45
| Victoria | 77.47
| Walker | 97.61
| Waller | 123.90
| Ward | 28.23
| Washington | 126.85
| Webb | 45.45
| Wharton | 76.99
| Wheeler | 28.89
| Wichita | 39.11
| Wilbarger | 33.93
| Willacy | 46.62
| Williamson | 98.75
| Wilson | 84.21
| Winkler | 29.74
| Wise | 103.37
| Wood | 89.20
| Yoakum | 24.91
| Young | 44.87
| Zapata | 37.46
| Zavala | 46.19
Utah | Beaver | 25.88
| Box Elder | 17.82
| Cache | 56.19
| Carbon | 14.39
| Daggett | 32.29
| Davis | 108.42
| Duchesne | 11.35
| Emery | 24.43
| Garfield | 36.36
| Grand | 9.58
| Iron | 22.73
| Juab | 15.43
| Kane | 21.09
| Millard | 23.75
| Morgan | 25.58
| Piute | 24.20
| Rich | 10.15
| Salt Lake | 112.57
| San Juan | 4.27
| Sanpete | 32.79
| Sevier | 49.79
| Summit | 37.96
| Tooele | 15.99
| Uintah | 7.32
| Utah | 101.55
| Wasatch | 64.61
| Washington | 43.45
| Wayne | 52.77
| Weber | 108.35
Vermont | Addison | 91.48
| Bennington | 130.74
| Caledonia | 87.53
| Chittenden | 175.20
| Essex | 53.65
| Franklin | 85.56
| Grand Isle | 118.06
| Lamoille | 95.62
| Orange | 100.97
| Orleans | 74.28
| Rutland | 75.74
| Washington | 117.49
| Windham | 137.46
| Windsor | 106.02
Virginia | Accomack | 118.06
| Albemarle | 273.64
| Alleghany | 116.60
| Amelia | 85.59
| Amherst | 128.74
| Appomattox | 85.59
| Arlington | 8,243.41
| Augusta | 193.61
| Bath | 101.71
| Bedford | 121.69
| Bland | 95.32
| Botetourt | 116.13
| Brunswick | 69.54
| Buchanan | 66.89
| Buckingham | 103.21
| Campbell | 85.37
| Caroline | 102.24
| Carroll | 89.05
| Charles City | 93.31
| Charlotte | 72.50
| Chesapeake City | 161.77
| Chesterfield | 254.94
| Clarke | 194.91
| Craig | 82.71
| Culpeper | 158.98
| Cumberland | 105.28
| Dickenson | 78.01
| Dinwiddie | 84.87
| Essex | 88.35
| Fairfax | 464.90
| Fauquier | 203.57
| Floyd | 105.17
| Fluvanna | 119.36
| Franklin | 99.64
| Frederick | 199.81
| Giles | 85.01
| Gloucester | 130.48
| Goochland | 150.21
| Grayson | 114.94
| Greene | 180.66
| Greensville | 75.02
| Halifax | 73.33
| Hanover | 139.28
| Henrico | 167.80
| Henry | 81.91
| Highland | 88.46
| Isle of Wight | 102.74
| James City | 279.75
| King and Queen | 93.42
| King George | 141.38
| King William | 111.92
| Lancaster | 117.21
| Lee | 73.19
| Loudoun | 271.53
| Louisa | 137.01
| Lunenburg | 73.69
| Madison | 164.56
| Mathews | 118.34
| Mecklenburg | 76.46
| Middlesex | 109.74
| Montgomery | 133.94
| Nelson | 140.33
| New Kent | 148.08
| Northampton | 126.83
| Northumberland | 83.15
| Nottoway | 87.80
| Orange | 174.19
| Page | 180.22
| Patrick | 76.76
| Pittsylvania | 78.42
| Powhatan | 146.58
| Prince Edward | 78.78
| Prince George | 105.31
| Prince William | 295.82
| Pulaski | 97.32
| Rappahannock | 190.62
| Richmond | 109.41
| Roanoke | 158.87
| Rockbridge | 136.04
| Rockingham | 244.65
| Russell | 79.94
| Scott | 72.95
| Shenandoah | 162.77
| Smyth | 81.05
| Southampton | 85.39
| Spotsylvania | 155.93
| Stafford | 362.49
| Suffolk | 114.16
| Surry | 93.47
| Sussex | 76.76
| Tazewell | 75.68
| Virginia Beach City | 266.89
| Warren | 208.80
| Washington | 139.36
| Westmoreland | 103.24
| Wise | 85.67
| Wythe | 108.46
| York | 334.58
Washington | Adams | 25.84
| Asotin | 23.94
| Benton | 70.53
| Chelan | 278.63
| Clallam | 231.03
| Clark | 161.86
| Columbia | 29.46
| Cowlitz | 162.02
| Douglas | 21.35
| Ferry | 9.37
| Franklin | 83.14
| Garfield | 28.46
| Grant | 61.90
| Grays Harbor | 43.33
| Island | 198.64
| Jefferson | 137.70
| King | 637.73
| Kitsap | 636.21
| Kittitas | 74.67
| Klickitat | 32.17
| Lewis | 108.57
| Lincoln | 22.11
| Mason | 154.91
| Okanogan | 21.84
| Pacific | 62.67
| Pend Oreille | 48.22
| Pierce | 388.81
| San Juan | 171.10
| Skagit | 183.28
| Skamania | 218.60
| Snohomish | 349.77
| Spokane | 67.45
| Stevens | 28.39
| Thurston | 214.94
| Wahkiakum | 86.94
| Walla Walla | 45.79
| Whatcom | 303.85
| Whitman | 31.59
| Yakima | 49.85
West Virginia | Barbour | 64.86
| Berkeley | 148.58
| Boone | 64.97
| Braxton | 57.05
| Brooke | 78.47
| Cabell | 99.00
| Calhoun | 50.64
| Clay | 47.83
| Doddridge | 59.14
| Fayette | 80.91
| Gilmer | 36.58
| Grant | 72.83
| Greenbrier | 72.39
| Hampshire | 83.44
| Hancock | 127.05
| Hardy | 89.25
| Harrison | 69.55
| Jackson | 61.41
| Jefferson | 163.13
| Kanawha | 107.80
| Lewis | 60.00
| Lincoln | 51.19
| Logan | 68.72
| Marion | 82.33
| Marshall | 71.86
| Mason | 67.50
| McDowell | 172.10
| Mercer | 69.86
| Mineral | 77.44
| Mingo | 31.00
| Monongalia | 125.83
| Monroe | 73.94
| Morgan | 145.38
| Nicholas | 72.64
| Ohio | 100.66
| Pendleton | 62.50
| Pleasants | 64.11
| Pocahontas | 52.08
| Preston | 76.30
| Putnam | 79.61
| Raleigh | 103.02
| Randolph | 67.36
| Ritchie | 50.14
| Roane | 53.61
| Summers | 63.11
| Taylor | 85.41
| Tucker | 79.52
| Tyler | 53.14
| Upshur | 73.47
| Wayne | 55.80
| Webster | 63.86
| Wetzel | 53.53
| Wirt | 50.22
| Wood | 92.58
| Wyoming | 92.97
Wisconsin | Adams | 123.08
| Ashland | 61.25
| Barron | 93.75
| Bayfield | 60.07
| Brown | 232.92
| Buffalo | 108.03
| Burnett | 74.66
| Calumet | 215.90
| Chippewa | 97.58
| Clark | 111.27
| Columbia | 159.80
| Crawford | 87.19
| Dane | 225.90
| Dodge | 160.24
| Door | 130.43
| Douglas | 53.77
| Dunn | 98.74
| Eau Claire | 125.22
| Florence | 69.29
| Fond du Lac | 199.47
| Forest | 66.52
| Grant | 129.33
| Green | 148.80
| Green Lake | 156.84
| Iowa | 133.37
| Iron | 93.25
| Jackson | 104.19
| Jefferson | 168.74
| Juneau | 101.56
| Kenosha | 207.70
| Kewaunee | 154.09
| La Crosse | 136.74
| Lafayette | 163.88
| Langlade | 89.71
| Lincoln | 88.86
| Manitowoc | 187.11
| Marathon | 130.27
| Marinette | 106.30
| Marquette | 114.50
| Menominee | 47.60
| Milwaukee | 244.80
| Monroe | 108.77
| Oconto | 114.23
| Oneida | 111.46
| Outagamie | 197.61
| Ozaukee | 179.70
| Pepin | 106.22
| Pierce | 126.68
| Polk | 96.98
| Portage | 112.42
| Price | 67.42
| Racine | 210.63
| Richland | 92.02
| Rock | 180.66
| Rusk | 68.14
| Sauk | 115.35
| Sawyer | 71.10
| Shawano | 127.83
| Sheboygan | 180.80
| St. Croix | 128.54
| Taylor | 80.47
| Trempealeau | 108.52
| Vernon | 106.49
| Vilas | 162.13
| Walworth | 190.09
| Washburn | 85.77
| Washington | 193.39
| Waukesha | 151.00
| Waupaca | 123.82
| Waushara | 116.01
| Winnebago | 191.14
| Wood | 90.78
Wyoming | Albany | 10.97
| Big Horn | 23.84
| Campbell | 8.49
| Carbon | 8.25
| Converse | 7.94
| Crook | 14.69
| Fremont | 19.11
| Goshen | 12.93
| Hot Springs | 9.32
| Johnson | 8.82
| Laramie | 12.72
| Lincoln | 27.42
| Natrona | 6.81
| Niobrara | 9.41
| Park | 22.41
| Platte | 13.17
| Sheridan | 18.36
| Sublette | 24.77
| Sweetwater | 4.44
| Teton | 60.74
| Uinta | 16.08
| Washakie | 17.54
| Weston | 10.04

[FR Doc. 2023-01860 Filed 2-1-23; 8:45 am]

BILLING CODE 6717-01-P